DEPARTMENT OF TRANSPORTATION

Federal Aviation Administration

14 CFR Part 39

[Docket No. 99-CE-67-AD]

RIN 2120-AA64

Airworthiness Directives; DG Flugzeugbau GmbH Model DG-800B Sailplanes

AGENCY: Federal Aviation Administration, DOT.

ACTION: Notice of proposed rulemaking (NPRM).

SUMMARY: This document proposes to adopt a new airworthiness directive (AD) that would apply to certain DG Flugzeugbau GmbH (DG Flugzeugbau) Model DG-800B Sailplanes. The proposed AD would require you to install an additional filter for the primer valve; inspect and align the exhaust system; modify the placement of the fuel lines if the fuel filter is installed at the front mounting point of the spindle drive; and secure the gas strut piston rod end using Loctite if the piston rod does rotate. The proposed AD is the result of mandatory continuing airworthiness information (MCAI) issued by the airworthiness authority for Germany. The actions specified by the proposed AD are intended to prevent failure of the fuel line, exhaust system, and piston rod of the gas strut, which could result in failure of the engine. Such failure could lead to loss of power during critical stages of flight.

DATES: The Federal Aviation Administration (FAA) must receive any comments on this proposed rule by February 20, 2001.

ADDRESSES: Send three copies of your comments to FAA, Central Region, Office of the Regional Counsel, Attention: Rules Docket No. 99-CE-67-AD, 901 Locust, Room 506, Kansas City, Missouri 64106. You may read comments at this location between 8 a.m. and 4 p.m., Monday through Friday, except holidays.

You may get service information that applies to the proposed AD from DG Flugzeugbau, Postbox 41 20, D-76646 Bruchsal, Federal Republic of Germany; telephone: +49 7257-890; facsimile: +49 7257-8922. You may read this information at the Rules Docket at the address above.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Comments Invited

How do I comment on the proposed AD? We invite your comments on the proposed rule. You may send whatever written data, views, or arguments you choose. You need to include the rule's docket number and send your comments in triplicate to the address specified under the caption ADDRESSES. We will consider all comments received by the closing date specified above, before acting on the proposed rule. We may change the proposals contained in this notice in light of the comments received.

Are there any specific portions of the proposed AD I should pay attention to? The FAA specifically invites comments on the overall regulatory, economic, environmental, and energy aspects of the proposed rule that might require a change to the proposed rule. You may look at all comments we receive. We will file a report in the Rules Docket that summarizes each FAA contact with the public that concerns the substantive parts of this proposal.

We are re-examining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 99-CE-67-AD.” We will date stamp and mail the postcard back to you.

Discussion

What events have caused this proposed AD? The Luftfahrt-Bundesamt (LBA), which is the airworthiness authority for the Federal Republic of Germany, recently notified FAA that an unsafe condition may exist on all Model DG-800B sailplanes equipped with a SOLO engine. The LBA reports that an extensive review of the service history revealed failures of the primer valve, exhaust system, fuel line, exhaust and piston rod of the gas strut for the engine.

What are the consequences if the condition is not corrected? The actions specified by the proposed AD are intended to prevent failure of the fuel line, exhaust system, and piston rod of the gas strut, which could result in failure of the engine. Such failure could lead to loss of power during critical stages of flight.

Is there service information that applies to this subject? DG Flugzeugbau has issued these technical notes (TN):

—TN No. 873/12, dated March 9, 1999; and

—TN No. 873/13, dated June 30, 1999.

What are the provisions of these service bulletins? These service bulletins includes procedures for:

—Installing an additional filter for the primer valve;

—Inspecting and aligning the exhaust system;

—Modifying the placement of the fuel lines if the fuel filter is installed at the front mounting point of the spindle drive; and

—Securing the gas strut piston rod end using Loctite, if the piston rod does rotate.

What action did the LBA take? The LBA classified this service information as mandatory and issued German AD Number 1999-167, dated May 20, 1999, and German AD Number 1999-269, dated July 22, 1999, in order to assure the continued airworthiness of these sailplanes in the Germany.

Was this in accordance with the bilateral airworthiness agreement? These sailplane models are manufactured in Germany and are type certificated for operation in the United States under the provisions of section 21.29 of the Federal Aviation Regulations (14 CFR 21.29) and the applicable bilateral airworthiness agreement.

Complying with this bilateral airworthiness agreement, the LBA has kept FAA informed of the situation described above.

The FAA's Determination and an Explanation of the Provisions of the Proposed AD

What has FAA decided? The FAA has examined the findings of the LBA; reviewed all available information, including the service information referenced above; and determined that:

—The unsafe condition referenced in this document exists or could develop on other DG Flugzeugbau Model DG-800B sailplanes of the same type design;

—The actions specified in the previously-referenced service information should be accomplished on the affected sailplanes; and

—AD action should be taken in order to correct this unsafe condition.

What would the proposed AD require? This proposed AD would require you to do the actions specified in the previously referenced serviced information.

Cost Impact

How many sailplanes would the proposed AD impact? We estimate that the proposed AD would affect 6 sailplanes in the U.S. registry.

What would be the cost impact of the proposed AD on owners/operators of the affected sailplanes? We estimate the following costs to do the proposed installation of an additional filter for the primer valve:

Labor cost | Parts cost | Total cost for each sailplane | Total cost on U.S. operators
2 workhours × $60 = 120 | Manufacturer will provide the parts at no cost | $120 | 6 sailplanes × $120 = $720.

We estimate the following costs to inspect and align the exhaust system:

Labor cost | Parts cost | Total cost for each sailplane | Total cost on U.S. operators
1 workhour × $60 | The manufacturer will provide the parts at no cost | $60 | 6 sailplanes × $60 = $360.

We estimate the following costs to modify the placement of the fuel lines:

Labor cost | Parts cost | Total cost for each sailplane | Total cost on U.S. operators
1 workhour × $60. | Manufacturer will provide the parts at no cost | $60 | 6 sailplanes × $60 = $360.

We estimate the following costs to secure the gas strut rod end:

Labor cost | Parts cost | Total cost for each sailplane | Total cost on U.S. operators
1 workhour × $60. | Manufacturer will provide the parts at no cost | $60 | 6 sailplanes × $60 = $360.

Compliance Time of the Proposed AD

What would be the compliance time of the proposed AD? Unless already done, the compliance times of this proposed AD are:

Compliance | Action
Within the next 3 calendar months after the effective date of this AD | Install an additional filter for the primer valve.
Within the next 3 calendar months after the effective date of this AD | Inspect and align the exhaust system.
Within the next 30 days after the effective date of this AD | Modify the placement of the fuel lines.
Within the next 30 days after the effective date of this AD | Remove the gas strut from the engine mount and secure the rod end using Loctite.

Why is the compliance time presented in calendar time instead of hours time-in-service (TIS)? Although the failures of the fuel line, exhaust system, and piston rod of the gas strut occur during flight, the condition is not a direct result of sailplane operation. A calendar time for compliance will ensure that the unsafe conditions are addressed on all sailplanes in a reasonable time period. Sailplane operation varies among operators. For example, one operator may use the sailplane 50 hours TIS in 3 months while it may take another 12 months or more to accumulate 50 hours TIS. In order to ensure that preventive and corrective actions are done in a timely manner, the compliance time for installing an additional filter for the primer valve and inspecting and aligning the exhaust system is required within the next three calendar months after the effective date of this AD, unless already done.

Because of the impact on safety, the compliance time for modifying the placement of the fuel lines and removing the gas strut from the engine mount and securing the rod end using Loctite is required within the next 30 days after the effective date of this AD, unless already done.

Regulatory Impact

Would this proposed AD impact various entities? The regulations proposed would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if issued, will not have a significant economic impact, positive or negative, on a substantial number of small entities under the criteria of the Regulatory Flexibility Act. A copy of the draft regulatory evaluation prepared for this action has been placed in the Rules Docket. A copy of it may be obtained by contacting the Rules Docket at the location provided under the caption “ADDRESSES”.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows;

PART 39—AIRWORTHINESS DIRECTIVES

1. The authority citation for part 39 continues to read as follows:

Authority: 49 U.S.C. 106(g), 40113 44701.

§ 39.13 [Amended]

2. FAA amends § 39.13 by adding a new airworthiness directive (AD) to read as follows:

DG Flugzeugbau GMBH: Docket No. 99-CE-67-AD

(a) What sailplanes are affected by this AD? This AD affects the following sailplane models and serial numbers that are certificated in any category;

Model | Serial Nos.
DG-800B with SOLO engine | 8-001 through 8-128 for paragraph (d)(1) of this AD.
DG-800B with SOLO engine | 8-001 through 8-154 for paragraph (d)(2) of this AD.
DG-800B with SOLO engine | all serial numbers for paragraphs (d)(3) through (4) of this AD.

(b) Who must comply with this AD? Anyone who wishes to operate any of the above sailplanes must comply with this AD.

(c) What problem does this AD address? The actions specified by this AD are intended to prevent failure of the fuel line, exhaust system, and piston rod of the gas strut, which could result in failure of the engine. Such failure could lead to loss of power during critical stages of flight.

(d) What actions must I accomplish to address this problem? To address this problem, you must do the following unless already done:

Actions | Compliance time | Procedures
(1) Install an additional filter for the primer valve | Within the next 3 calendar months after the effective date of this AD | Do this action following the Instructions paragraph of DG Flugzeugbau Technical Note (TN) No. 873/12, dated March 9, 1999, and Working Instruction No. 1 for TN No. 873/12.
(2) Inspect and align the exhaust system | Within the next 3 calendar months after the effective date of this AD | Do this action following the Instructions paragraph of DG Flugzeugbau TN No. 873/12, dated March 9, 1999, and working Instruction No. 2 for TN No. 873/12.
(3) If the fuel filter is installed at the front mounting point of the spindle drive, modify the placement of the fuel lines | Within the next 30 days after the effective date of this AD | Do this action following the Instructions paragraph of DG Flugzeugbau TN No. 873/13, dated June 30, 1999.
(4) If there is no paint marking (torque putty) or if the marking proves that the piston rod rotates, remove the gas strut from the engine mount and secure the rod end using Loctite, then apply marking paint line (torque putty) | Within the next 30 days after the effective date of this AD | Do this action following the Instructions paragraph of DG Flugzeugbau TN No. 873/13, dated June 30, 1999, and the maintenance manual.

(e) Can I comply with this AD in any other way? You may use an alternative method of compliance or adjust the compliance time if:

(1) Your alternative method of compliance provides an equivalent level of safety; and

(2) The Manager, Small Airplane Directorate, approves your alternative. Send your request through an FAA Principal Maintenance Inspector, who may add comments and then send it to the Manager, Small Airplane Directorate.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You can contact Mike Kiesov, Aerospace engineer, FAA, Small Airplane Directorate, 901 Locust, Room 301, Kansas City, Missouri 64016; telephone: (816) 329-4144; facsimile: (816) 329-4090.

(g) What if I need to fly the sailplane to another location to comply with this AD? The FAA can issue a special flight permit under sections 21.197 and 21.199 of the Federal Aviation Regulations (14 CFR 21.197 and 21.199) to operate your sailplane to a location where you can do the requirements of this AD.

(h) How do I get copies of the documents reference in this AD? You may get copies of the documents referenced in this AD from DG Flugzeugbau, Postbox 41 20, D-76646 Bruchsal, Federal Republic of Germany; telephone: +49 7257-890; facsimile: +49 7257-8922. You may read these documents at FAA, Central Region, Office of the Regional Counsel, 901 Locust, Room 506, Kansas City, Missouri 64106.

Note 2: The subjects of this AD are addressed in German Ad 1999-269, Effective Date: July 22, 1999, and German AD 1999-167, Effective Date: May 20, 1999.

Issued in Kansas City, Missouri, on January 2, 2001.
Marvin R. Nuss,
Acting Manager, Small Airplane Directorate, Aircraft Certification Service.

[FR Doc. 01-509 Filed 1-8-01; 8:45 am]

BILLING CODE 4910-13-U